DEPARTMENT OF LABOR

Employment and Training Administration

[TA-W-51,405]

Itronix Corporation, Spokane, WA; Notice of Revised Determination on Reconsideration

By application of July 11, 2003, a company official requested administrative reconsideration regarding the Department's Negative Determination Regarding Eligibility to Apply for Worker Adjustment Assistance, applicable to the workers of the subject firm.

The initial investigation resulted in a negative determination issued on June 9, 2003, based on the finding that the petitioning workers of this firm do not produce an article within the meaning of Section 222 of the Trade Act of 1974. The denial notice was published in the Federal Register on June 19, 2003 (68 FR 36846).

To support the request for reconsideration, the company supplied additional information to supplement that which was gathered during the initial investigation. Upon further review and contact with the company, it was revealed that the company filed the original petition on behalf of the entire facility, and not only the product development group that was investigated initially for TAA eligibility.

As a result of this clarification, it was established that the petitioning worker group was engaged in activities related to the production of rugged laptops and handheld devices. Consequently, information obtained in the initial investigation indicating employment, sales and production declines in the relevant period could be used to verify TAA eligibility criteria. Finally, it was established that these declines could be attributed to a shift in production of initial assembly of rugged laptops and handheld devices to a foreign facility, and that this production was imported back to the subject facility for further processing.

Conclusion

After careful review of the additional facts obtained on reconsideration, I conclude that increased imports of articles like or directly competitive with those produced at Itronix Corporation, Spokane, Washington, contributed importantly to the declines in sales or production and to the total or partial separation of workers at the subject firm. In accordance with the provisions of the Act, I make the following certification:

All workers of Itronix Corporation, Spokane, Washington, who became totally or partially separated from employment on or after April 3, 2002 through two years from the date of this certification, are eligible to apply for adjustment assistance under Section 223 of the Trade Act of 1974.

Signed in Washington, DC this 22nd day of August 2003.
Elliott S. Kushner,
Certifying Officer, Division of Trade Adjustment Assistance.

[FR Doc. 03-24701 Filed 9-29-03; 8:45 am]

BILLING CODE 4510-30-U